DEPARTMENT OF COMMERCE

National Oceanic and Atmospheric Administration

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (Council's) Cooperative Research Committee will hold a public meeting.

DATES: The meeting will be held on Tuesday, June 2, 2015, from 9:30 a.m. to 11:30 a.m., via internet webinar.

ADDRESSES: The meeting will be held via webinar with a telephone-only connection option.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's Web site, www.mafmc.org will have details on the proposed agenda, webinar access, and briefing materials.

SUPPLEMENTARY INFORMATION: In August 2014, the Council voted to suspend the Research Set-Aside (RSA) program for 2015 in order to address a range of issues, including abuse of the program and inconsistencies in the quality and usefulness of RSA-funded research. During this period of suspension, staff is working with the RSA Committee and Council to identify potential cooperative research approaches that will enable the Council to achieve these goals more effectively.

During this meeting the Cooperative Research Committee will discuss a revised action plan and specific next steps for the ongoing review and restructuring of the Council's involvement in cooperative research. The Committee's recommendations will be reviewed by the full Council at its meeting on June 8-11, in Virginia Beach, VA.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Webinar and phone connection information, a detailed agenda, and any briefing materials will be posted at www.mafmc.org prior to the meeting.

Special Accommodations

These meetings are physically accessible to people with disabilities. Requests for sign language interpretation or other auxiliary aid should be directed to M. Jan Saunders, (302) 526-5251, at least 5 days prior to the meeting date.

Dated: May 13, 2015.
Tracey L. Thompson,
Acting Deputy Director, Office of Sustainable Fisheries, National Marine Fisheries Service.

[FR Doc. 2015-11953 Filed 5-15-15; 8:45 am]

BILLING CODE 3510-22-P